DEPARTMENT OF HOMELAND SECURITY

Agreement Between the Government of the United States of America and the Government of the Republic of Ecuador Relating to the Transfer of Third-Country Nationals to Ecuador

AGENCY: Department of Homeland Security.

ACTION: Notice of Agreement.

SUMMARY: The Department of Homeland Security is publishing the Agreement between the Government of the United States of America and the Government of the Republic of Ecuador relating to the transfer of third-country nationals to Ecuador, effected by exchange of diplomatic notes on July 16, 2025 and July 23, 2025. The text of the diplomatic notes is set out below.

(Authority: 8 U.S.C. 1158(a)(2)(A).)

Joseph N. Mazzara,
Acting General Counsel, U.S. Department of Homeland Security.

BILLING CODE 9110-9M-P

[FR Doc. 2025-19939 Filed 11-14-25; 8:45 am]

BILLING CODE 9110-9M-C